DEPARTMENT OF TRANSPORTATION

Federal Aviation Administration

Notice of Intent To Rule on a Land Release Request at Lancaster Airport (LNS), Lancaster, PA

AGENCY: Federal Aviation Administration (FAA), DOT.

ACTION: Notice and request for comment.

SUMMARY: The FAA is requesting public comment for a land release enabling a change in use of federally obligated airport property from aeronautical to non-aeronautical use, as well as a long-term lease of such property, at Lancaster Airport, Lititz, Pennsylvania. This change in use, which involves 2.799 acres of airport property, will accommodate the construction of a convenience store. This acreage was purchased with federal financial assistance through the Federal Aid to Airports (FAAP) Program under Grant Agreement 9-36-001-5703 in 1959. In accordance with federal regulations, this notice is required to be published in the Federal Register 30 days before releasing the grant assurances that requires the property to be used for an aeronautical purpose.

DATES: Comments must be received on or before October 30, 2017.

ADDRESSES: Comments on this application may be mailed or delivered to the following address: David Eberly, Manager, Lancaster Airport, 500 Airport Road, Suite G, Lititz, PA 17543-9340, 717-569-1221, and at the FAA Harrisburg Airports District Office: Lori K. Pagnanelli, Manager, Harrisburg Airports District Office, 3905 Hartzdale Dr., Suite 508, Camp Hill, PA 17011, (717) 730-2830.

FOR FURTHER INFORMATION CONTACT: Oscar Sanchez, Project Manager, at the Harrisburg Airports District Office location listed above.

The request for change in designation of on-airport property may be reviewed in person at this same location.

SUPPLEMENTARY INFORMATION: The following is a brief overview of the request: The Lancaster Airport Authority has submitted a land release request seeking to change the designation of 2.799 acres of on-airport property from aeronautical to non-aeronautical use. It is proposed that this acreage be leased to a developer that will use the land to construct and operate a convenience store. The proposed duration of the leasehold is 50 years. No land shall be sold as part of this land request. The property is situated on the northwest corner of the intersection of Lititz Pike (Route 501) and Airport Road in Warwick Township. The 2.799 acres are part of a 14.65-acre parcel that was purchased by the sponsor in 1959 with funding from the FAA as part of a Federal grant to protect the runway approach from incompatible development. The subject area itself, however, is located outside the designated Runway Protection Zone (RPZ) and the proposed development does not penetrate the protected surfaces established by 14 CFR part 77. The 2.799-acre area requested to be designated as non-aeronautical is impractical to be utilized for aviation purposes because it is located outside the Air Operations Area (AOA), behind a row of corporate hangars. A large stormwater drainage swale separates the site from the AOA. The subject acreage is not currently being utilized by the Airport Authority. The purpose of this request is to permanently change the designation of the property given there is no potential for future aviation use, as demonstrated by Lancaster Airport's approved Airport Layout Plan. Subsequent to the implementation of the proposed redesignation, rents received by the airport from this property must be used in accordance with FAA's Policy and Procedures Concerning the Use of Airport Revenue, published in the Federal Register on February 16, 1999.

Any person may inspect the request by appointment at the FAA office address listed above. Interested persons are invited to comment. All comments will be considered by the FAA to the extent practicable.

Issued in Camp Hill, Pennsylvania, September 25, 2017.
Lori K. Pagnanelli,
Manager, Harrisburg Airports District Office.

[FR Doc. 2017-20969 Filed 9-28-17; 8:45 am]

BILLING CODE 4910-13-P